DEPARTMENT OF HEALTH AND HUMAN SERVICES

Centers for Medicare & Medicaid Services

[Document Identifiers: CMS-1984-14, CMS-10115, CMS-10130, and CMS-10479]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Hospice Facility Cost Report; Use: In accordance with sections 1815(a), 1833(e) and 1861(v)(1)(A) of the Social Security Act (the Act), providers of service in the Medicare program are required to submit annual information to achieve reimbursement for health care services rendered to Medicare beneficiaries. In addition, 42 CFR 413.20(b) specifies that cost reports are required from providers on an annual basis. Such cost reports are required to be filed with the provider's Medicare contractor. The functions of the Medicare contractor are described in section 1816 of the Act. Section 3132 of the Affordable Care Act requires that CMS collect appropriate data and information to facilitate hospice payment reform. Form Number: CMS-1984-14 (OCN: 0938-0758); Frequency: Yearly; Affected Public: Private sector (business or other for-profit and not-for-profit institutions); Number of Respondents: 2,751; Total Annual Responses: 2,751; Total Annual Hours: 517,188. (For policy questions regarding this collection contact Gail Duncan at 410-786-7278. For all other issues call 410-786-1326.)

2. Type of Information Collection Request: Reinstatement with change of a previously approved collection; Title of Information Collection: Federal Reimbursement of Emergency Health Services Furnished to Undocumented Aliens, Section 1011 of the Medicare Prescription Drug, Improvement and Modernization Act of 2003 (MMA). Use: Section 1011 of the MMA provides that the Secretary will establish a process (i.e., enrollment and claims payment) for eligible providers to request payment. The Secretary must directly pay hospitals, physicians and ambulance providers (including Indian Health Service, Indian Tribe and Tribal organizations) for their otherwise un-reimbursed costs of providing services required by section 1867 of the Social Security Act and related hospital inpatient, outpatient and ambulance services. CMS will use the application information to administer this health services program and establish an audit process. Form Number: CMS-10115 (OCN: 0938-0929); Frequency: Once and occasionally; Affected Public: Private sector (business or other for-profit and not-for-profit institutions); Number of Respondents: 10,000; Total Annual Responses: 10,000; Total Annual Hours: 5,000. (For policy questions regarding this collection contact Fred Rooke at 404-562-7502. For all other issues call 410-786-1326.)

3. Type of Information Collection Request: Reinstatement without change of a previously approved collection; Title of Information Collection: Federal Reimbursement of Emergency Health Services Furnished to Undocumented Aliens, Section 1011 of the Medicare Prescription Drug, Improvement and Modernization Act of 2003 (MMA): “Section 1011 Provider Payment Determination” and “Request for Section 1011 Hospital On-Call Payments to Physicians” Forms. Use: Section 1011 of the MMA requires that the Secretary establish a process under which eligible providers (certain hospitals, physicians and ambulance providers) may request payment for (claim) their otherwise un-reimbursed costs of providing eligible services. The Secretary must make quarterly payments directly to such providers. The Secretary must also implement measures to ensure that inappropriate, excessive, or fraudulent payments are not made under Section 1011, including certification by providers of the veracity of their requests for payment. Both forms have been established to address the statutory requirements outlined above. Form Number: CMS-10130 (OCN: 0938-0952); Frequency: Occasionally; Affected Public: Private sector (business or other for-profit and not-for-profit institutions); Number of Respondents: 12,037; Total Annual Responses: 300,148; Total Annual Hours: 75,037. (For policy questions regarding this collection contact Fred Rooke at 404-562-7205. For all other issues call 410-786-1326.)

4. Type of Information Collection Request: New Collection; Title of Information Collection: Evaluation of the Multi-Payer Advanced Primary Care Practice (MAPCP) Demonstration Focus Group Protocols; Use: On September 16, 2009, the Department of Health and Human Services announced the establishment of the Multi-payer Advanced Primary Care Practice (MAPCP) Demonstration, under which Medicare joined Medicaid and private insurers as a payer participant in state-sponsored patient-centered medical home (PCMH) initiatives. CMS selected eight states to participate in this demonstration: Maine, Vermont, Rhode Island, New York, Pennsylvania, North Carolina, Michigan, and Minnesota. CMS is proposing to conduct in-person focus groups with Medicare and Medicaid beneficiaries and their caregivers to more thoroughly understand patients' experiences with their PCMHs and how well their PCMHs are serving their needs.

The focus groups will provide CMS with answers to fundamental “what, how, and why” questions about beneficiaries' experiences with care and access to and coordination of care. The information obtained via in-person, focus groups will be utilized by CMS for the evaluation of the MAPCP Demonstration. The focus group data will be collected to supplement other qualitative and quantitative analyses from primary and secondary data sources by providing data on context, structure, and process, as well as select aspects of the key outcomes. The data gathered from the interviews will allow for more complete interpretation of the quantitative claims and other data analysis by taking into account the unique perspectives of beneficiaries. Form Number: CMS-10479 (OCN: 0938-NEW); Frequency: Annually; Affected Public: Individuals and households; Number of Respondents: 768; Total Annual Responses: 384; Total Annual Hours: 1,152. (For policy questions regarding this collection contact Suzanne Goodwin at 410-786-0226. For all other issues call 410-786-1326.)

To obtain copies of the supporting statement and any related forms for the proposed paperwork collections referenced above, access CMS' Web site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by June 28, 2013:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

Dated: April 23, 2013.
Martique Jones,
Deputy Director, Regulations Development Group, Office of Strategic Operations and Regulatory Affairs.

[FR Doc. 2013-09948 Filed 4-26-13; 8:45 am]

BILLING CODE 4120-01-P